DEPARTMENT OF HEALTH AND HUMAN SERVICES

42 CFR Part 93

45 CFR Parts 46 and 73

Final Scientific Integrity Policy; Withdrawal

AGENCY: Office of the Assistant Secretary for Planning and Evaluation, Office of the Secretary, HHS.

ACTION: Withdrawal.

SUMMARY: The Department of Health and Human Services (HHS) is withdrawing the Federal Register document published at 89 FR 92830. The HHS Scientific Integrity Policy remains in effect.

DATES: As of December 2, 2024, the document published at 89 FR 92830, on November 25, 2024, is withdrawn.

FOR FURTHER INFORMATION CONTACT: Karen Wehner, Ph.D., Scientific Integrity Officer, Office of Science and Data Policy, Office of the Assistant Secretary for Planning and Evaluation, Office of the Secretary, HHS at 240-453-8435 or scientificintegrity@hhs.gov.

SUPPLEMENTARY INFORMATION: Scientific integrity plays a vital role in the mission of HHS. Ensuring integrity in science throughout the Department allows HHS to foster and produce high-quality science, communicate effectively with the public, and base critical policy decisions on trustworthy and rigorous scientific findings. HHS has adopted a Department-wide scientific integrity policy to further strengthen scientific integrity and evidence-based policymaking throughout the Department.

The Scientific Integrity Policy of the U.S. Department of Health and Human Services (Policy) was approved on September 16, 2024. The finalized Policy was announced to the HHS community and posted on the HHS scientific integrity website, at https://www.hhs.gov/programs/research/scientificintegrity/index.html, on September 30, 2024.

The document that published on Monday November 25, 2024, at 89 FR 92830 is being withdrawn. The Policy itself remains in effect and the public may continue to access the policy on the HHS website, at https://www.hhs.gov/sites/default/files/hhs-scientific-integrity-policy.pdf.

HHS would like to clarify that the Policy does not modify, implement, or change the Rules referenced in the CFR citations section, i.e., 42 CFR part 93 and 45 CFR parts 46 and 73; and is not intended to be guidance about implementing those Rules. HHS also notes that the Policy is an internal HHS policy and only applies to HHS employees and other covered individuals as indicated in the Policy.

The effective date of the Policy remains October 16, 2024.

Dated: November 25, 2024.
Katherine N. Bent,
Associate Deputy Assistant Secretary, Office of Science and Data Policy, Office of the Assistant Secretary for Planning and Evaluation, Department of Health and Human Services.

[FR Doc. 2024-28128 Filed 11-27-24; 8:45 am]

BILLING CODE 4150-05-P